DEPARTMENT OF TRANSPORTATION

Federal Aviation Administration

14 CFR Part 71

[Docket No. FAA-2003-14658; Airspace Docket No. 03-ACE-27]

Proposed modification of Class E airspace; Fort Leonard Wood, MO

AGENCY: Federal Aviation Administration (FAA), DOT.

ACTION: Notice of proposed rulemaking.

SUMMARY: This notice proposes to modify Class E airspace areas at Fort Leonard, MO. An examination of controlled airspace at Fort Leonard, MO revealed discrepancies in the dimensions of the Fort Leonard, MC Class E4 and Class E5 airspace areas. This action corrects the discrepancies by modifying the airspace areas.

The intended effect of this proposal is to provide controlled Class E airspace for aircraft executing instrument approach procedures to Waynesville Regional Airport at Forney Field and to segregate aircraft using instrument approach procedures in instrument conditions from aircraft operating in visual conditions.

DATES: Comments for inclusion in the Rules Docket must be received on or before April 25, 2003.

ADDRESSES: Send comments on this proposal to the Docket Management System, U.S. Department of Transportation, Room Plaza 401, 400 Seventh Street, SW., Washington, DC 20590-0001. You must identify the docket number FAA-2003-14658/Airspace Docket No. 03-ACE-27, at the beginning of your comments. You may also submit comments on the Internet at http://dms.dot.gov. You may review the public docket containing the proposal, any comments received, and any final disposition in person in the Dockets Office between 9 a.m. and 5 p.m. Monday through Friday, except Federal holidays. The Docket Office (telephone 1-800-647-5527) is on the plaza level of the Department of Transportation NASSIF Building at the above address.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

Comments Invited

Interested parties are invited to participate in this proposed rulemaking by submitting such written data, views, or arguments, as they may desire. Comments that provide the factual basis supporting the views and suggestions presented that particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2003-14658/Airspace Docket No. 03-ACE-27.” The postcard will be date/time stamped and returned to the commenter.

Availability of NPRM's

An electric copy of this document may be downloaded through the Internet at http://dms.dot.gov. Recently published rulemaking documents can also be accessed through the FAA's Web page at http://www.faa.gov. or the Superintendent of Document's Web page at http://www.access.gpo.gov/nara.

Additionally, any person may obtain a copy of this notice by submitting a request to the Federal Aviation Administration, Office of Air Traffic Airspace Management, ATA-400, 800 Independent Avenue, SW., Washington, DC 20591, or by calling (202) 267-8783. Communications must identify both docket numbers for this notice. Persons interested in being placed on a mailing list for future NPRM's should contact the FAA's Office of Rulemaking (202) 267-9677, to request a copy of Advisory Circular No. 11-2A, Notice of Proposed Rulemaking Distribution System, which describes the application procedure.

The Proposal

This notice proposes to amend Title 14 Code of Federal Regulations, part 71 (14 CFR part 71) by modifying the Class E airspace area designated as an extension to the Class D airspace and the Class E airspace area extending upward from 700 feet or more above the surface at Fort Leonard Wood, MO. An examination of controlled airspace at Fort Leonard, MO revealed the dimensions of these airspace areas were not in compliance with FAA Order 8260.19, Flight Procedures and Airspace. This proposed rule making would decrease the size of the Fort Leonard Wood, MO Class E airspace area designated as an extension to the Class D airspace by relocating the southeastern boundary of this area from 16 miles to 7 miles southeast of the Buckhorn Nondirectional Radio Beacon (NDB). It would also increase the dimensions of the Class E airspace area extending upward from 700 feet or more above the surface to approximately the current dimensions of the Class E airspace area designated as an extension to the Class D airspace. These actions would correct the discrepancies in the controlled airspace at Fort Leonard Wood, MO and bring them into compliance with FAA Order 8260.19. These areas would be depicted on appropriate aeronautical charts.

Class E airspace areas designated as an extension to a Class D area are published in Paragraph 6004 of FAA Order 7400.9K, dated August 30, 2002, and effective September 16, 2002, which is incorporated by reference in 14 CFR 71.1. Class E airspace areas extending upward from 700 feet or more above the surface of the earth are published in Paragraph 6005 of the same Order. The Class E airspace designations listed in this document would be published subsequently in the Order.

The FAA has determined that this proposed regulation only involves an established body of technical regulations for which frequent and routine amendments are necessary to keep them operationally current. It, therefore (1) is not a “significant regulatory action” under Executive Order 12866; (2) is not a “significant rule” under DOT Regulatory Policies and Procedures (44 FR 11034; February 26, 1979); and (3) does not warrant preparation of a Regulatory Evaluation as they anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9K, Airspace Designations and Reporting Points, dated August 30, 2002, and effective September 16, 2002, is amended as follows:

Paragraph 6004 Class E airspace areas designated as an extension to Class D or Class E surface area.

* * * * *

ACE MO E4 Fort Leonard Wood, MO

Waynesville Regional Airport at Forney Field, MO

(Lat. 37°44′30″ N., long. 92°08′27″ W.) Forney VOR

(Lat. 37°44′33″ N., long. 92°08′20″ W.) Buckhorn NDB

(Lat. 37°41′51″ N., long. 92°06′14″ W.)

That airspace extending upward from the surface within 2.4 miles each side of the Forney VOR 318° radial extending from the 4-mile radius of Waynesville Regional Airport at Forney field to 7 miles northwest of the VOR and within 4 miles southwest and 8 miles northeast of the 147° bearing from the Buckhorn NDB extending from the 4-mile radius of the airport to 7 miles southeast of the Buckhorn NBD, excluding that airspace within the R-4501 Fort Leonard Wood Restricted Areas, during the specific times they are in effect. This Class E airspace area is effective during the specific dates and times established in advance by a Notice to Airmen. The effective date and time will thereafter be continuously published in the Airport/Facility Director.

* * * * *

Paragraph 6005 Class E airspace areas extending upward from 700 feet or more above the surface of the earth.

* * * * *

ACE MO E5 Fort Leonard Wood, MO

Waynesville Regional Airport at Forney Field, MO

(Lat. 37°44′30″ N., long. 92°08′27″ W.) Forney VOR

(Lat. 37°44′33″ N., long. 92°08′20″ W.) Buckhorn NDB

(Lat. 37°41′51″ N., long. 92°06′14″ W.)

That airspace extending upward from 700 feet above the surface within a 6.5-mile radius of Waynesville Regional Airport at Forney Field and within 2.4 miles each side of the Forney VOR 318° radial extending from the 6.5-mile radius of the airport to 7 miles northwest of the VOR and within 4 miles southwest and 8 miles northeast of the 147° bearing from the Buckhorn NDB extending from the 6.5-mile radius of the airport to 16 miles southeast of the Buckhorn NDB; excluding that airspace within the R-4501 Fort Leonard Wood, MO, Restricted Areas during the specific times they are in effect.

* * * * *

Issued in Kansas City, MO, on March 11, 2003.
Paul J. Sheridan,
Acting Manager, Air Traffic Division, Central Region.

[FR Doc. 03-7073 Filed 3-24-03; 8:45 am]

BILLING CODE 4910-13-M